DEPARTMENT OF TRANSPORTATION

National Highway Traffic Safety Administration

[Docket No. DOT-NHTSA-2022-0011]

Agency Information Collection Activities; Notice and Request for Comment; Record Retention

AGENCY: National Highway Traffic Safety Administration (NHTSA), Department of Transportation (DOT).

ACTION: This is a reinstatement of a previous approved information collection.

SUMMARY: In compliance with the Paperwork Reduction Act of 1995 (PRA), this notice announces that the Information Collection Request (ICR) abstracted below is being forwarded to the Office of Management and Budget (OMB) for review and approval. A Federal Register Notice with a 60-day comment period soliciting comments on the following information collection was published on July 20, 2022. No comments were received.

DATES: Comments must be submitted on or before December 5, 2022.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Paul Simmons, Office of Defect Investigation (NEF-110), (202) 366-2315, National Highway Traffic Safety Administration, Department of Transportation, 1200 New Jersey Avenue SE, Washington, DC 20590, email paul.simmons@dot.gov. Please identify the relevant collection of information by referring to its OMB Control Number 2121-0042.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title of Collection: Record Retention—49 CFR part 576.

OMB Control Number: 2127-0042.

Form Numbers(s): N/A.

Type of Request: This is a reinstatement of a previous approved Information Collection.

Type of Review Requested: Regular.

Length of Approval Requested: Three years.

Summary of the Collection of Information

Under 49 U.S.C. 30166(e), NHTSA “reasonably may require a manufacturer of a motor vehicle or motor vehicle equipment to keep records, and a manufacturer, distributor or dealer to make reports, to enable [NHTSA] to decide whether the manufacturer, distributor, or dealer has complied or is complying with this chapter or a regulation prescribed under this chapter.”

To ensure that NHTSA will have access to this type of information, the agency exercised the authority granted in 49 U.S.C. 30166(e) and promulgated 49 CFR part 576 Record Retention, initially published on August 20, 1974 and most recently amended on July 10, 2002 (67 FR 45873), requiring manufacturers to retain one copy of all records that contain information concerning malfunctions that may be related to motor vehicle safety for a period of five calendar years after the record is generated or acquired by the manufacturer. Manufacturers are also required to retain for five years the underlying records related to early warning reporting (EWR) information submitted under 49 CFR part 579. The information collections support NHTSA's mission by increasing the effectiveness of NHTSA's investigations into potential safety related defects.

Description of the Need for the Information and Proposed Use of the Information

The records that are required to be retained per 49 CFR part 576 are used to promptly identify potential safety-related defects in motor vehicles and motor vehicle equipment in the United States. When a trend in incidents arising from a potentially safety-related defect is discovered, NHTSA relies on this information, along with other agency data, to determine whether or not to open a formal defect investigation (as authorized by Title 49 U.S.C. chapter 301—Motor Vehicle Safety). NHTSA normally becomes aware of possible safety-related defects because it receives consumer complaints.

Agency experience has shown that manufacturers receive significantly more consumer complaints than does the agency. This is because the consumer with the product does not know whether their particular vehicle or equipment has a problem that is common with an entire group of vehicles or equipment. Whereas consumers know the manufacturer of their vehicle or equipment, relatively few know how to file a complaint with the National Highway Traffic Safety Administration's Auto Safety Hotline. The complaints filed with the manufacturer give the agency a fair indication of how widespread the potential problem may be.

If the manufacturer did not retain its records, NHTSA would be unable to enforce the statutory requirements that the manufacturer notify the agency and other persons of a safety-related defect when the manufacturer “learns” of the defect, and notify the agency and other persons of a noncompliance when it “decides in good faith” that the noncompliance exists. Without access to the manufacturer's records, it would be impossible for anyone other than the manufacturer to show when or if that manufacturer had obtained knowledge of a potential defect or had determined in good faith that the noncompliance did or did not exist. Without access to manufacturers' records, NHTSA's examinations of potential defects and non-compliances would be seriously handicapped. NHTSA could conduct surveys of vehicle owners or use other means to learn of problems with vehicles and equipment, but any of these other methods would require significantly more information collections by the agency and necessitate a larger staff of the agency's Office of Defect Investigations.

60-Day Notice: A Federal Register Notice with a 60-day comment period soliciting comments on the following information collection was published on July 20, 2022. No comments were received.

Affected Public: Manufacturers of motor vehicles and motor vehicle equipment.

Estimated Number of Respondents: 1,030.

NHTSA estimates that approximately 1,030 manufacturers of vehicles and equipment (including tires, child restraint systems and trailers) are required to maintain records under Part 576.

Frequency: As needed.

Number of Responses: 1,030.

Estimated Total Annual Burden Hours: 40,225.

NHTSA estimates the total annual burden for each vehicle, tire, and child restraint manufacturer to be 40 hours for a subtotal of 40,200 hours (1,005 respondents × 40 hours). In addition, there are approximately 23,660 equipment manufacturers (excluding tires, child seat restraint systems and trailer manufacturers) whose record retention requirements under part 576 are limited to the documents underlying their part 579 reporting requirements. Their part 579 requirements include only the reporting of incidents involving deaths. Therefore, based on the number of death reports submitted to date by these equipment manufacturers, we estimate that an additional 25 equipment manufacturers have record retention requirements imposed by part 576. We estimate that it will take one hour each to maintain the necessary records each year for a subtotal burden of 25 hours (25 respondents × one hour). Accordingly, NHTSA estimates that the total annual burden hours is 40,225 hours ((1,005 respondents × 40 hours) + (25 respondents × 1 hour)).

To calculate the labor cost associated with maintaining, NHTSA looked at wage estimates for the type of personnel involved with compiling and submitting the documents. NHTSA estimates the total labor costs associated with these burden hours by looking at the average wage for clerical workers. The Bureau of Labor Statistics (BLS) estimates that the average hourly wage for office clerks (BLS Occupation code 43-9061) in the Motor Vehicle Manufacturing Industry is $20.98.¹ The Bureau of Labor Statistics estimates that private industry workers' wages represent 70.2% of total labor compensation costs.² Therefore, NHTSA estimates the hourly labor costs to be $29.89 and NHTSA estimates the total labor cost associated with the 40,225 burden hours to be $1,202,325.25. Table 1 provides a summary of the estimated burden hours and labor costs associated with those submissions.

¹ May 2020 National Industry-Specific Occupational Employment and Wage Estimates, NAICS 336100—Motor Vehicle Manufacturing, available at https://www.bls.gov/oes/2020/may/naics4_336100.htm#43-0000 (accessed March 25, 2022).

² See Table 1. Employer Costs for Employee Compensation by ownership (Mar. 2020), available at https://www.bls.gov/news.release/archives/ecec_06182020.pdf (accessed March 25, 2022).

Table 1—Burden Estimates
Annual responses | Estimated burden per response (hours) | Average hourly labor cost | Labor cost per response | Total burden hours | Total labor costs
1,030 | 39.05 | $29.89 | $1,167.31 | 40,225 | $1,202,325.25

Estimated Total Annual Burden Cost: $0.

NHTSA estimates that there are no costs resulting from this collection of information other than labor costs associated with the burden hours.

Public Comments Invited: You are asked to comment on any aspect of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

A comment to OMB is most effective if OMB receives it within 30 days of publication.

Authority: The Paperwork Reduction Act of 1995; 44 U.S.C. chapter 35, as amended; 49 CFR 1.49; and DOT Order 1351.29A.

Stephen A. Ridella,
Director, Office of Defects Investigation.

[FR Doc. 2022-24032 Filed 11-3-22; 8:45 am]

BILLING CODE 4910-59-P